POSTAL SERVICE

Sunshine Act Meeting; Board of Governors; Meeting; Teleconference

DATES AND TIMES: Friday, December 5, 2014, at 2:30 p.m.

PLACE: Via Teleconference (Public access to hear the teleconference will be at 475 L'Enfant Plaza SW., in the Benjamin Franklin Room, or live via audio webcast at http://about.usps.com/news/electronic-press-kits/bog/welcome.htm.)

STATUS: Friday, December 5, at 2:30 p.m.—Open; Friday, December 5, at 2:45 p.m.—Closed

MATTERS TO BE CONSIDERED:

Friday, December 5, at 2:30 p.m. (Open)

1. Approval of Minutes of Previous Meetings.

2. Approval of the FY2014 10K and Financial Statements.

3. Approval of the Annual Report and Comprehensive Statement.

Friday, December 5, at 2:45 p.m. (Closed)

1. Strategic Issues.

2. Pricing.

3. Governors' Executive Session—Discussion of prior agenda items and Board Governance.

CONTACT PERSON FOR MORE INFORMATION: Julie S. Moore, Secretary of the Board, U.S. Postal Service, 475 L'Enfant Plaza SW., Washington, DC 20260-1000. Telephone: (202) 268-4800.

Julie S. Moore,
Secretary.

[FR Doc. 2014-28198 Filed 11-25-14; 11:15 am]

BILLING CODE 7710-12-P